ENVIRONMENTAL PROTECTION AGENCY

[FRL-9932-71-OA]

Request for Public Comments on the List of Candidates for EPA's Science Advisory Board (SAB) Agricultural Science Committee

AGENCY: Environmental Protection Agency (EPA).

ACTION: Notice.

SUMMARY: The U.S. Environmental Protection Agency (EPA) invites public comments on the list of candidates being considered for appointment to the EPA's Science Advisory Board (SAB) Agricultural Science Committee to provide advice to the chartered SAB regarding matters referred to the SAB that will have a significant direct impact on farming and agriculture-related industries.

DATES: Nominations should be submitted in time to arrive no later than September 9, 2015.

FOR FURTHER INFORMATION CONTACT: Members of the public wishing to obtain further information may contact Ms. Stephanie Sanzone, Designated Federal Officer (DFO) for the committee, by email at sanzone.stephanie@epa.gov or by telephone at 202-564-2067.

Background: The chartered SAB (the Board) was established in 1978 by the Environmental Research, Development and Demonstration Authorization Act (42 U.S.C. 4365) to provide independent advice to the Administrator on general scientific and technical matters underlying the Agency's policies and actions. Members of the SAB and its subcommittees constitute a distinguished body of non-EPA scientists, engineers, economists, and social scientists that are nationally and internationally recognized experts in their respective fields. Members are appointed by the EPA Administrator, generally for a period of three years. The SAB conducts business in accordance with the Federal Advisory Committee Act (FACA) (5 U.S.C. App. 2) and related regulations. Generally, SAB meetings are announced in the Federal Register, conducted in public view, and provide opportunities for public input during deliberations. All the work of the SAB subcommittees is performed under the direction of the Board. The chartered Board provides strategic advice to the EPA Administrator on a variety of EPA science and research programs and reviews and approves all SAB subcommittee and panel reports. Additional information about the SAB may be found at http://www.epa.gov/sab.

The SAB Staff Office previously announced (79 FR 73304-73305, December 10, 2014) that pursuant to section 12307 of the Agricultural Act of 2014 (P.L. 133-79), the EPA is establishing a new agriculture-related standing committee of the SAB. On January 26, 2015, the SAB Staff Office announced (80 FR 2965-3966) an extension to the nomination period through March 30, 2015. The SAB Agricultural Science Committee will provide advice to the chartered SAB on matters referred to the Board that EPA and the Board, in consultation with the Secretary of Agriculture, determine will have a significant direct impact on farming and agriculture-related industries. The SAB Staff Office sought public nominations of experts with demonstrated expertise in agriculture-related sciences, including: Agricultural economics, including valuation of ecosystem goods and services; agricultural chemistry; agricultural engineering; agronomy, including soil science; aquaculture science; biofuels engineering; biotechnology; crop and animal science; environmental chemistry; forestry; and hydrology. The SAB Staff Office hereby invites public comments on the list of candidates under consideration for the SAB Agricultural Science Committee, available at http://yosemite.epa.gov/sab/sabproduct.nsf/WebAll/nominationcommittee?OpenDocument.

How To Submit Comments: Any interested person or organization may submit comments to Ms. Sanzone, Designated Federal Officer, at the contact information provided above no later than September 9, 2015. Email is the preferred mode of receipt. Please be advised that public comments are subject to release under the Freedom of Information Act.

Dated: August 7, 2015.
Thomas H. Brennan,
Deputy Director, EPA Science Advisory Board Staff Office.

[FR Doc. 2015-20511 Filed 8-18-15; 8:45 am]

BILLING CODE 6560-50-P